DEPARTMENT OF HOMELAND SECURITY

Office of the Secretary

[Docket No. DHS-2009-0113]

Privacy Act of 1974; Federal Emergency Management Agency—001 National Emergency Family Registry and Locator System System of Records

AGENCY: Privacy Office, DHS.

ACTION: Notice of Privacy Act system of records.

SUMMARY: Pursuant to the Post-Katrina Emergency Management Reform Act of 2006, and the Privacy Act of 1974, as amended, the Department of Homeland Security is giving notice that the Federal Emergency Management Agency, Disaster Assistance Directorate, Individual Assistance Branch, Emergency Support Function 6-Mass Care section, is establishing a new system of records entitled the Federal Emergency Management Agency—001 National Emergency Family Registry and Locator System.

This system of records will enable the Federal Emergency Management Agency to provide a nationally accessible electronic system that will allow adults displaced from their homes or pre-disaster location after a Presidentially-declared emergency or disaster to voluntarily register themselves, and to identify up to seven family or household members they agree to allow access to their personal identifying information that may potentially include their current location or a special message to an identified individual. The Federal Emergency Management Agency's system will allow two groups of individuals limited information for the purpose of reuniting them: (1.) Registrants: displaced individuals registered in the system; and (2.) searchers: individuals who are searching for family or household members. Those registering in the system or those seeking displaced family or household members can access the system via the Internet at https://asd.fema.gov/inter/nefrls/home.htm or by telephone via toll-free number 1-800-588-9822.

DATES: Submit comments on or before October 26, 2009. This new system will be effective October 26, 2009.

ADDRESSES: You may submit comments, identified by DHS-2009-0113 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Larry Gary, Privacy Officer, Federal Emergency Management Agency, Federal Emergency Management Agency, 500 C Street, SW., Washington, DC 20472. For privacy issues please contact: Mary Ellen Callahan (703-235-0780), Chief Privacy Officer, Privacy Office, U.S. Department of Homeland Security, Washington, DC 20528.

SUPPLEMENTARY INFORMATION:

I. Background

During Hurricane Katrina, displaced individuals experienced numerous difficulties in reuniting with family members after the disaster. As a result, Congress mandated in Section 689c of the Post-Katrina Emergency Management Reform Act (PKEMRA) of 2006, Public Law 109-295, that the Federal Emergency Management Agency (FEMA) establish the National Emergency Family Registry and Locator System (NEFRLS). FEMA has the discretionary authority to activate NEFRLS to help reunify families separated after an emergency or disaster declared by the President as defined in the Robert T. Stafford Disaster Relief and Emergency Assistance Act, 42 U.S.C. 5121-5207.

Pursuant to the savings clause in the Homeland Security Act of 2002, Public Law 107-296, Section 1512, 116 Stat. 2310 (November 25, 2002), and in accordance with the Post-Katrina Emergency Management Reform Act (PKEMRA) of 2006, Public Law 109-295, and the Privacy Act of 1974, as amended, the Department of Homeland Security (DHS) gives notice that FEMA's, Disaster Assistance Directorate, Individual Assistance Branch, Emergency Support Function 6-Mass Care section, is establishing a new system of records entitled the “Federal Emergency Management Agency National Emergency Family Registry and Locator System.”

This system of records will enable FEMA to provide a nationally accessible electronic system that will allow adults, displaced from their homes or pre-disaster location after a Presidentially-declared emergency or disaster, to voluntarily register themselves, and to identify up to seven family or household members they grant, in writing, access to their personal identifying information. This personal identifying information may potentially include their current location or a special message to an identified individual. FEMA's system will allow two groups of individuals limited access for the purpose of reuniting them: (1.) Registrants: Displaced individuals registered in the system; and (2.) searchers: individuals who are searching for family or household members who registered in the system. This second group may or may not be displaced from their homes and may or may not be registered in the system. A displaced individual or “registrant” is one whose pre-disaster primary residence is uninhabitable or inaccessible as a direct result of a Presidentially-declared emergency or disaster. A household member may be any person who lived in the registrant's pre-disaster residence immediately preceding the disaster.

As mandated in the statute authorizing this system, medical patients who have been displaced due to a disaster or emergency will also have access to and may voluntarily register in the system. A medical patient includes an individual who receives medical care on a daily basis by a licensed medical professional and/or has a pre-disaster address in a hospital, field hospital, or nursing home. Generally, this would not include an assisted living facility but may also include on a case-by-case basis. Those registering in the system or those seeking displaced family can access the system either electronically via the Internet at https://asd.fema.gov/inter/nefrls/home.htm or by telephone via toll-free 1-800-588-9822.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other personal identifying information assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to which personally identifiable information is put, and to assist individuals to more easily find such files within the agency. Below is the description of the “Federal Emergency Management Agency National Emergency Family Registry and Locator System” system of records.

In accordance with 5 U.S.C. 552a(r), DHS has provided a report of this new system of records to the Office of Management and Budget and to Congress.

System of Records:

DHS/FEMA—001.

System name:

Federal Emergency Management Agency National Emergency Family Registry and Locator System.

Security classification:

Unclassified.

System location:

Records are maintained at the Federal Emergency Management Agency Headquarters in Washington, DC and field offices.

Categories of individuals covered by the system:

Categories of individuals covered by this system include: Registrants (adult individual(s)) who have been displaced by a Presidentially-declared disaster or emergency and who voluntarily register in the National Emergency Family Registry and Locator System system; Family or Household Members who are travelling with the registrant, or who lived in the pre-disaster residence immediately preceding the disaster; and Searchers who are searching for missing family or household members.

Searchers are permitted to view personal information and/or messages of certain registrant(s) upon designation by the registrant(s).

Categories of records in the system:

Categories of records in this system include:

Information about the individual registering in the National Emergency Family Registry and Locator System (“registrant”) consists of:

• Authenticated Individual's Full Name;

• Date of Birth;

• Gender;

• Current Phone;

• Alternate Phone;

• Current Address;

• Pre-Disaster Address;

• Name and Type of Current Location; (i.e. shelter, hotel, or family/friend's home);

• Traveling with Pets (Yes or No);

• Identity Authentication Approval or Nonapproval, the fact of the authentication is maintained, but the answers to the questions provided to the third party organization are not maintained by DHS/FEMA;

• System specific username and password; and

• Personal Message (may consist of up to 300 characters intended for designated family or household members to read).

Information about the family/household members traveling with the registrant in the National Emergency Family Registry and Locator System consists of:

• Family/Household Members Full Name;

• Gender;

• Current Phone;

• Alternate Phone;

• Current Address;

• Pre-Disaster Address;

• Name and Type of Current Location; (i.e. shelter, hotel, or family/friend's home);

• Traveling with Pets (Yes or No);

• Personal Message: (may consist of up to 300 characters for listed, designated family, or household members to read.)

Information about the individual searching the National Emergency Family Registry and Locator System for a registrant or family/household member (searcher) consists of:

• Searching Individual's Full Name;

• Permanent Address;

• Phone;

• Alternate Phone;

• E-mail;

• Date of Birth;

• Identity Authentication Approval or Nonapproval, the fact of the authentication is maintained, but the answers to the questions provided to the third party organization are not maintained by DHS/FEMA; and

• System specific username and password.

Authority for maintenance of the system:

The National Emergency Family Registry and Locator System, section 689c of the Post-Katrina Emergency Management Reform Act of 2006, Public Law 109-295 and the Robert T. Stafford Disaster Relief and Emergency Assistance Act, as amended, 42 U.S.C. 5121-5207.

Purpose(s):

The purpose of this system is to reunify families and household members following a Presidentially-declared disaster or emergency. To families using the National Emergency Family Registry and Locator System system of records, the registrant and searcher must acknowledge that the information in National Emergency Family Registry and Locator System may be disclosed to searchers upon request, to Federal agencies, State and local governments as well as law enforcement or voluntary agencies.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ) (including United States Attorney Offices) or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration (NARA) or other Federal Government agencies pursuant to records management inspections being conducted under the authority of 44 U.S.C. sections 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To Federal agencies; State, tribal and local governments; Federal, State, and local law enforcement agencies; the National Center for Missing and Exploited Children and voluntary organizations as defined in 44 CFR 206.2(a)(27) that have an established disaster assistance program to address the disaster-related unmet needs of disaster victims, are actively involved in the recovery efforts of the disaster, and either have a national membership, in good standing, with the National Voluntary Organizations Active in Disaster, or are participating in the disaster's Long-Term Recovery Committee for the express purpose of reunifying families. Other agencies may include other Federal agencies and non-governmental agencies with which FEMA coordinates under the National Response Framework, which is an integrated “plan” explaining how the Federal Government will interact with and support State, local, tribal, and non-governmental entities during a Presidentially-declared disaster or emergency. This may include: The Office of Juvenile Justice and Delinquency Prevention, Department of Health and Human Services, U.S. Department of Justice, U.S. Federal Bureau of Investigation's Crimes Against Children's Unit, Department of Justice U.S. Marshals Service, the American Red Cross, and the National Emergency Child Locator Center.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name, address (current and alternate), and phone number of the individual registering or searching in the National Emergency Family Registry and Locator System.

Safeguards:

Records in this system are safeguarded in accordance with applicable rules and policies, including all applicable DHS automated systems security and access policies. Strict controls have been imposed to minimize the risk of compromising the information that is being stored. Administrative access to the computer system containing the records in this system is limited to those individuals who have a need to know the information for the performance of their official duties and who have appropriate clearances or permissions. The system maintains a real-time auditing function of individuals who access the system.

Retention and disposal:

In accordance with the FEMA Records Schedule (FRS), the National Archives, and Records Administration (NARA) Disposition Authority number N1-311-09-1, records and reports related to and regarding registrations and searchers in NEFRLS performed by a displaced person, Call Center Operator on behalf of a displaced person, or family and friends will be cut off 60 days after the last edit to the record and destroyed/deleted 3 years after the cutoff. Additionally, in compliance with FRS, NARA Disposition Authority number N1-311-04-5, Item 3, records in this system associated with a domestic catastrophic event will have permanent value. A catastrophic event may be any natural or manmade incident, including terrorism, which results in extraordinary levels of mass casualties, damage, or disruption severely affecting the population, infrastructure, environment, economy, national morale, and/or government functions. A catastrophic event could result in sustained national impacts over a prolonged period of time; almost immediately exceeds resources normally available to State, local, tribal, and private-sector authorities in the impacted area; and significantly interrupts governmental operations and emergency services to such an extent that national security could be threatened.

System Manager and address:

Deputy Director, Individual Assistance, Disaster Assistance Directorate, Federal Emergency Management Agency, 500 C Street, SW., Washington, DC 20472.

Notification procedure:

Individuals seeking notification of and access to any record contained in this system of records, or seeking to contest its content, may submit a request in writing to FEMA's FOIA Officer, 500 C Street, SW., Attn: FOIA Coordinator, Washington, DC 20472.

When seeking records about yourself from this system of records or any other FEMA system of records your request must conform with the Privacy Act regulations set forth in 6 CFR part 5. You must first verify your identity, meaning that you must provide your full name, current address and date and place of birth. You must sign your request, and your signature must either be notarized or submitted under 28 U.S.C. 1746, a law that permits Statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a Statement from that individual certifying his/her agreement for you to access his/her records.

Without this bulleted information the FEMA may not be able to conduct an effective search, and your request may be denied due to lack of specificity or lack of compliance with applicable regulations.

Record access procedures:

See “Notification procedure” above.

Contesting record procedures:

See “Notification procedure” above.

Record source categories:

Records are obtained by registrants for the National Emergency Family Registry and Locator System, individuals searching the National Emergency Family Registry and Locator System; and third party authentication services indicating an individual has been approved or not approved.

Exemptions claimed for the system:

None.

Dated: September 14, 2009.
Mary Ellen Callahan,
Chief Privacy Officer, Department of Homeland Security.

[FR Doc. E9-23018 Filed 9-23-09; 8:45 am]

BILLING CODE 9110-17-P